DEPARTMENT OF THE INTERIOR

Fish and Wildlife Service

[FWS-R8-ES-2022-N008; FXES11140800000-189-FF08EACT00]

Programmatic Safe Harbor Agreement for the Northern Spotted Owl, Mendocino County, California

AGENCY: Fish and Wildlife Service, Interior.

ACTION: Notice of availability and receipt of application.

SUMMARY: This notice advises the public that registered professional foresters Craig and Christopher Blencowe have applied to the Fish and Wildlife Service (Service) for an enhancement of survival (EOS) permit under the Endangered Species Act. If granted, the EOS permit would be in effect for a 40-year period in Mendocino County, California, and would authorize take of the threatened northern spotted owl (covered species) that is likely to occur incidental to managing the timber on properties under periodic (approximately 10-year harvest intervals) uneven-aged forestry management practices of single-tree and group selection. Owners of properties managed by the Blencowes would sign on to the Blencowe Programmatic Safe Harbor Agreement (SHA) through specific cooperative agreements and certificates of inclusion. The documents available for review and comment include the applicants' SHA; cooperative agreements and certificates of inclusion for the Bradford Ranch, Miller Tree Farm, and Weger Ranch properties; and our draft environmental action statements and low-effect screening form, which support categorical exclusions under the National Environmental Policy Act. We invite comments from the public and Federal, Tribal, State, and local governments.

DATES: Submitting Comments: To ensure consideration, we must receive written comments by 5 p.m. on July 11, 2022.

ADDRESSES:

Obtaining Documents: You may obtain the applicants' SHA and our draft environmental action statement and low-effect screening form by one of the following methods.

• U.S. Mail: U.S. Fish and Wildlife Service, 1655 Heindon Road, Arcata, CA 95521;

• Electronic Mail: Contact fw8_afwo_comments@fws.gov to request documents; indicate “Blencowe SHA” in subject line.

Submitting Comments: You may submit written comments by any one of the following methods.

• U.S. Mail: Tanya Sommer, Field Supervisor, at our Arcata office (address above);

• Electronic mail: fw8_afwo_comments@fws.gov; in the email subject line, please be specific about which documents your comments address;

• Fax: 707-822-8411.

FOR FURTHER INFORMATION CONTACT: Bill McIver, at our Arcata office (address above), or by telephone at 707-822-7201. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under safe harbor agreements (SHAs), participating landowners voluntarily undertake management activities on their properties to enhance, restore, or maintain habitat benefiting species listed under the Endangered Species Act of 1973, as amended (ESA; 16 U.S.C. 1531 et seq.). SHAs, and the subsequent enhancement of survival (EOS) permits that are issued pursuant to section 10(a)(1)(A) of the ESA, encourage private and other non-Federal property owners to implement conservation efforts for listed species, by assuring property owners that they will not be subject to increased land use restriction as a result of efforts to attract or increase the numbers or distribution of a listed species on their property. Application requirements and issuance criteria for EOS permits through SHAs are found in 50 CFR 17.22(c) and 17.32(c).

This SHA is expected to promote the recovery of the covered species on non-Federal properties within Mendocino County. The proposed duration of the SHA and the associated enhancement of survival permit is 40 years. The proposed EOS permit would authorize the incidental taking of the covered species associated with the restoration, enhancement, and maintenance of suitable habitat for the covered species during routine and ongoing silvicultural activities and the potential future return of any property included in the SHA to baseline conditions. Under this SHA, individual landowners (cooperators) may include their properties by entering into a cooperative agreement with the applicants. Each cooperative agreement will specify the restoration and/or enhancement and management activities to be carried out on that specific property, and a timetable for implementing those activities. The Service will review all cooperative agreements to determine whether the proposed activities would result in a net conservation benefit for the covered species and meet all required standards of the Service's Safe Harbor Policy (June 17, 1999, 64 FR 32717). Upon Service approval, the Blencowes (applicants) will issue a certificate of inclusion to each of the cooperators. Each certificate of inclusion will extend the incidental take coverage conferred by the EOS permit to the cooperator.

Baseline levels for the covered species will be determined by the cooperator, in coordination with the Service, and then the Service will review each baseline determination prior to the Blencowes' issuance of a certificate of inclusion to the cooperator. The SHA also contains a monitoring component that requires the applicant to ensure that the cooperators are in compliance with the terms and conditions of the SHA. Results of these monitoring efforts will be provided to the Service by the applicant in an annual report.

Upon approval of this SHA, and consistent with the Service's Safe Harbor Policy, the Service would issue an EOS permit to the Blencowes. This permit would authorize cooperators who are issued a certificate of inclusion to take the covered species incidental to the implementation of the management activities specified in the SHA, incidental to other lawful uses of the property, including routine land management activities, and to return to baseline conditions if desired. An applicant would receive assurances under our “No Surprises” regulations (50 CFR 17.22(c)(5) and 17.32(c)(5)) for the covered species in the EOS permit. In addition to meeting other criteria, actions to be performed under an EOS permit must not jeopardize the existence of Federally listed fish, wildlife, or plants, and the Service is conducting a section 7 consultation.

Application

The Service has worked with registered professional foresters Craig Blencowe and Christopher Blencowe to develop a programmatic SHA for the creation and enhancement of habitat for the northern spotted owl on three Mendocino County properties that the Blencowes manage for timber harvest using uneven-aged silviculture techniques. At the start of the permit term for the SHA, the Blencowes propose to include the following three properties under the SHA: Bradford Ranch, Miller Tree Farm, and Weger Ranch. The landowners associated with each property would sign a cooperative agreement with the Blencowes, and the Blencowes would sign a certificate of inclusion for each property, verifying that the landowners agree to implement the timber management activities described in the SHA and cooperative agreements. The term of the proposed SHA and associated EOS permit is 40 years. Any associated certificate of inclusion would be tied to permit term and not longer, unless the SHA is extended by agreement. Currently, the properties support approximately 6,606 acres of northern spotted owl nesting/roosting habitat and 3 northern spotted owl territories (i.e., an activity center on property), as follows: Bradford Ranch (2,363 acres and 1 territory), Miller Tree Farm (1,849 acres and 2 territories), and Weger Ranch (2,394 acres and 0 territories). We anticipate that under the timber management prescriptions proposed in the programmatic SHA, at least 6,606 acres of nesting/roosting habitat will be enhanced on Blencowe-managed properties, and potentially up to 2 additional northern spotted owl territories could exist on each of the three properties at the end of the 40-year SHA term.

For properties managed under the SHA, if any additional northern spotted owl territory becomes established on the property, take of northern spotted owls associated with the effects of timber harvest on such additional northern spotted owl territories would be authorized under the incidental take permit during the 40-year permit term. The Service anticipates that incidental take of a northern spotted owl would occur only if: (a) additional northern spotted owl territories were established on any of the enrolled properties; and (b) any of the enrolled properties were returned to baseline conditions after the term of the 40-year SHA has expired. The Service anticipates that no more than two additional northern spotted owl territories would be established on each property during the 40-year permit term. In other words, during the 40-year permit term, the Service anticipates that no more than 12 northern spotted owls (2 adult owls per territory and as many as 6 new territories) would be subject to take if habitat conditions were returned to baseline conditions. The development and maintenance of high-quality functional habitat employing uneven-aged timber management practices in a matrix of private timberland subject to even-aged management regimes will provide a relatively stable habitat condition that we believe will provide high productivity for multiple generations of northern spotted owls. Therefore, the cumulative impact of the SHA and the activities it covers, which are facilitated by the allowable incidental take, are expected to provide a net conservation benefit to the northern spotted owl.

Public Availability of Comments

Written comments we receive become part of the administrative record associated with this action. Before including your address, phone number, email address, or other personal identifying information in your comment, you should be aware that your entire comment, including your personal identifying information, may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22 and 17.32) and NEPA (42 U.S.C. 4321 et seq.) and its implementing regulations (40 CFR 1506.6 and 43 CFR part 46).

Tanya Sommer,
Field Supervisor, Arcata Fish and Wildlife Office, Arcata, California.

[FR Doc. 2022-12507 Filed 6-9-22; 8:45 am]

BILLING CODE 4333-15-P